ENVIRONMENTAL PROTECTION AGENCY

40 CFR Part 60

Standards of Performance for New Stationary Sources

CFR Correction

In title 40 of the Code of Federal Regulations, Part 60 (§ 60.1 to End), revised as of July 1, 2005, on page 167, in § 60.41c, correct the definition of “Annual capacity factor” to read as follows:

§ 60.41c Definitions.

* * * * *

Annual capacity factor means the ratio between the actual heat input to a steam generating unit from an individual fuel or combination of fuels during a period of 12 consecutive calendar months and the potential heat input to the steam generating unit from all fuels had the steam generating unit been operated for 8,760 hours during that 12-month period at the maximum design heat input capacity. In the case of steam generating units that are rented or leased, the actual heat input shall be determined based on the combined heat input from all operations of the affected facility during a period of 12 consecutive calendar months.

* * * * *

[FR Doc. 05-55521 Filed 12-15-05; 8:45 am]

BILLING CODE 1505-01-D